DEPARTMENT OF AGRICULTURE

Food Safety and Inspection Service

[Docket No. FSIS-2007-0040]

Codex Alimentarius Commission: Meeting of the 8th Session of the Codex Committee on Milk and Milk Products (CCMMP)

AGENCY: Office of the Under Secretary for Food Safety, USDA.

ACTION: Notice of public meeting and request for comments.

SUMMARY: The Office of the Under Secretary for Food Safety and the Agricultural Marketing Service (AMS) of the U.S. Department of Agriculture (USDA) are sponsoring a public meeting on January 17, 2008. The objective of the public meeting is to provide information and receive public comments on agenda items and draft United States positions that will be discussed at the 8th Session of the Codex Committee on Milk and Milk Products (CCMMP) of the Codex Alimentarius Commission (Codex), which will be held in Queenstown, New Zealand, February 4-8, 2008. The Under Secretary for Food Safety and the AMS recognize the importance of providing interested parties the opportunity to obtain background information on the 8th Session of the CCMMP and to address items on the agenda.

DATES: The public meeting is scheduled for Thursday, January 17, 2008, from 9 a.m. to 12 noon.

ADDRESSES: The public meeting will be held in Room 3074, South Agriculture Building, U.S. Department of Agriculture, 14th St. and Independence Avenue, SW., Washington, DC 20250. Documents related to the 8th Session of the CCMMP will be accessible via the World Wide Web at the following address: http://www.codexalimentarius.net/current.asp.

The U.S. Delegate to the 8th Session of the CCMMP, Duane R. Spomer, AMS, invites interested U.S. parties to submit their comments electronically to the following e-mail address Susan.Sausville@usda.gov.

FOR FURTHER INFORMATION ABOUT THE 8th SESSION OF THE CCMMP CONTACT: Susan Sausville, Chief, AMS, Dairy Standardization; Telephone: (202) 720-9382; Fax: (202) 720-2643.

FOR FURTHER INFORMATION ABOUT THE PUBLIC MEETING CONTACT: Syed Amjad Ali, International Issues Analyst; Telephone: (202) 205-7760; Fax: (202) 720-3157.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The CCMMP was established to elaborate codes and standards for milk and milk products. The CCMMP is hosted by the Government of New Zealand.

Issues To Be Discussed at the Public Meeting

The following items on the Agenda for the 8th Session of the CCMMP will be discussed during the public meeting:

1. Matters Referred by the Codex Alimentarius Commission and other Codex Committees and Task Forces.

2. Draft Model Export Certificate for Milk and Milk Products.

3. Proposed Draft Amendment to the Codex Standard for Fermented Milks pertaining to Composite Fermented Milk Drinks.

4. Proposed Draft Standard for Processed Cheese.

5. Proposed Draft Amendment to the List of Additives of the Codex Standard for Creams and Prepared Creams.

6. Additive Listings for the Codex Standard for Fermented Milks (Flavored Fermented Milks.)

7. Discussion Paper on Sampling Plans for Milk Products in the Presence of Significant Measurement Errors.

Each issue listed will be fully described in documents distributed, or to be distributed, by the Secretariat prior to the meeting. Members of the public may access or request copies of these documents (see ADDRESSES).

Public Meeting

At the January 17, 2008, public meeting, draft U.S. positions on the agenda items will be described and discussed, and attendees will have the opportunity to pose questions and offer comments. Written comments may be offered at the meeting or sent to the U.S. Delegate for the 8th Session of the CCMMP, Duane R. Spomer (see ADDRESSES). Written comments should state that they relate to activities of the 8th Session of the CCMMP.

Additional Public Notification

Public awareness of all segments of rulemaking and policy development is important. Consequently, in an effort to ensure that minorities, women, and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on: October 24, 2007.
F. Edward Scarbrough,
U.S. Manager for Codex Alimentarius.

[FR Doc. E7-21315 Filed 10-29-07; 8:45 am]

BILLING CODE 3410-DM-P